DEPARTMENT OF ENERGY

Federal Energy Regulatory Commission

[Project No. 12569-001]

Public Utility District No. 1 of Okanogan County; Notice of Scoping Meetings and Site Visit and Soliciting Scoping Comments

December 16, 2008.

a. Type of Filings: New Major License.

b. Project No.: 12569-001.

c. Date Filed: August 22, 2008.

d. Submitted By: Public Utility District No. 1 of Okanogan County (Okanogan PUD).

e. Name of Project: Enloe Hydroelectric Project.

f. Location: On the Similkameen River, near the Town of Oroville, Okanogan County, Washington. The project occupies about 35.47 acres of federal lands under the jurisdiction of the U.S. Bureau of Land Management.

g. Filed Pursuant to: 18 CFR Part 5 of the Commission's Regulations.

h. Applicant Contact: John R. Grubich, General Manager, Public Utility District No. 1 of Okanogan County, P.O. Box 912, Okanogan, Washington 98840, (509) 422-8485.

i. FERC Contact: Dianne Rodman, 888 First Street, NE., Room 63-11, Washington, DC 20426, (202) 502-6105, dianne.rodman@ferc.gov.

Kim A. Nguyen, 888 First Street, NE., Room 6B-02, Washington, DC 20426, (202) 502-6077. kim.nguyen@ferc.gov.

j. Deadline for filing scoping comments: February 16, 2009.

All documents (original and eight copies) should be filed with: Kimberly D. Bose, Secretary, Federal Energy Regulatory Commission, 888 First Street, NE., Washington, DC 20426.

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

Scoping comments may be filed electronically via the Internet in lieu of paper. The Commission strongly encourages electronic filings. See 18 CFR 385.2001(a)(1)(iii) and the instructions on the Commission's Web site (http://www.ferc.gov) under the “e-Filing” link.

k. This application is not ready for environmental analysis at this time.

l. The Enloe Project would consist of: (1) An existing 315-foot-long and 54-foot-high concrete gravity arch dam with an integrated 276-foot-long central overflow spillway with 5-foot-high flashboards; (2) an existing 76.6-acre reservoir (narrow channel of the Similkameen River) with a storage capacity of 775 acre-feet at 1049.3 feet mean sea level; (3) a 190-foot-long intake canal on the east abutment of the dam diverting flows into the penstock intake structure; (4) a 35-foot-long by 30-foot-wide penstock intake structure; (5) two above-ground 8.5-foot-diameter steel penstocks carrying flows from the intake to the powerhouse; (6) a powerhouse containing two vertical Kaplan turbine/generator units with a total installed capacity of 9.0 megawatts; (7) a 180-foot-long tailrace channel that would convey flows from the powerhouse to the Similkameen River, downstream of the Similkameen Falls; (8) a new substation adjacent to the powerhouse; (9) a new 100-foot-long, 13.2-kilovolt primary transmission line from the substation connecting to an existing distribution line; (10) new and upgraded access roads, and (11) appurtenant facilities.

m. Copies of the License Application (LA) and Scoping Document 1 (SD1) are available for review at the Commission in the Public Reference Room or may be viewed on the Commission's Web site (http://www.ferc.gov), using the “eLibrary” link. Enter the docket number, excluding the last three digits, in the docket number field to access the document. For assistance, contact FERC Online Support at FERCONlineSupport@ferc.gov or toll free at 1-866-208-3676, or for TTY, (202) 502-8659.

Register online at http://ferc.gov/esubscribenow.htm to be notified via e-mail of new filings and issuances related to these or other pending projects. For assistance, contact FERC Online Support.

n. With this notice, we are soliciting comments on SD1. All comments on SD1 should be sent to the address above in paragraph j. In addition, all comments on the LA and SD1, study requests, requests for cooperating agency status, and all communications to Commission staff related to the merits of the potential applications (original and eight copies) must be filed with the Commission at the following address: Kimberly D. Bose, Secretary, Federal Energy Regulatory Commission, 888 First Street, NE., Washington, DC 20426. All filings with the Commission relevant to the Enloe Hydroelectric Project must include on the first page, the project name and number (P-12569-001), and bear the heading, as appropriate, “Comments on Scoping Document 1.”

Comments on SD1 and other permissible forms of communications with the Commission may be filed electronically via the Internet in lieu of paper. The Commission strongly encourages electronic filings. See 18 CFR 385.2001(a)(1)(iii) and the instructions on the Commission's Web site (http://www.ferc.gov) under the “e-filing” link.

o. At this time, Commission staff intends to prepare a single Environmental Assessment for the project, in accordance with the National Environmental Policy Act.

p. Scoping Meetings

We will hold two scoping meetings for each project at the times and places noted below. The daytime meetings will focus on resource agency, Indian tribes, and non-governmental organization concerns, while the evening meetings are primarily for receiving input from the public. We invite all interested individuals, organizations, Indian tribes, and agencies to attend one or all of the meetings, and to assist staff in identifying particular study needs, as well as the scope of environmental issues to be addressed in the environmental document. The times and locations of these meetings are as follows:

Evening Scoping Meeting

When: Wednesday, January 14, 2009, 7-9 p.m.

Where: The Depot, 1210 Ironwood Street, Oroville, WA 98844.

Daytime Scoping Meeting

When: Thursday, January 15, 2009, 2-4 p.m.

Where: The Depot, 1210 Ironwood Street, Oroville, WA 98844.

SD1, which outlines the subject areas to be addressed in the environmental document, has been mailed to the individuals and entities on the Commission's mailing list. Copies of SD1 will be available at the scoping meetings, or may be viewed on the Web at http://www.ferc.gov, using the “eLibrary” link. Follow the directions for accessing information in paragraph m. Depending on the extent of comments received, a Scoping Document 2 (SD2) may or may not be issued.

Site Visits

Okanogan PUD and Commission staff will visit the site of the proposed project on Thursday, January 15, 2009, from 9 a.m. to 12 noon. To attend the site visit, participants should meet at 9 a.m. at The Depot, 1210 Ironwood Street, Oroville, Washington. Access to the site will require 4-wheel drive vehicles only. Anyone needing a ride to the site or with questions about the site visit should contact Nick Christoph, (509) 422-8472, E-mail: NickC@okpud.org; or Dan Boettger, (509) 422-8425, Dan_B@okpud.org, at the Okanogan PUD.

Scoping Meeting Objectives

At the scoping meetings, staff will: (1) Present the proposed list of issues to be addressed in the EA; (2) review and discuss existing conditions and resource agency management objectives; (3) review and discuss existing information and identify preliminary information and study needs; (4) review and discuss the process plan and schedule for pre-filing activity that incorporates the time frames provided for in Part 5 of the Commission's regulations and, to the extent possible, maximizes coordination of federal, state, and tribal permitting and certification processes; and (5) discuss requests by any federal or state agency or Indian tribe acting as a cooperating agency for development of an environmental document.

Meeting participants should come prepared to discuss their issues and/or concerns. Please review the LA the scoping meetings. Directions on how to obtain a copy of the LA and SD1 are included in item m of this notice.

Scoping Meeting Procedures

The scoping meetings will be recorded by a stenographer and will become part of the formal Commission records for the projects.

Kimberly D. Bose,
Secretary.

[FR Doc. E8-30399 Filed 12-22-08; 8:45 am]

BILLING CODE 6717-01-P